DEPARTMENT OF JUSTICE

Notice of Lodging Proposed Consent Decree

In accordance with Departmental Policy, 28 CFR 50.7, notice is hereby given that a proposed Consent Decree in United States, et al. v. Costello, et al., No. 06-cv-329 (D. Md.), was lodged with the United States District Court for the District of Maryland on June 26, 2007.

This proposed Consent Decree concerns a complaint filed by the United States and the State of Maryland against William Costello, Janice Costello, Scott C. Mielke, and The Permit Coordinators, Inc., pursuant to Section 301(a) of the Clean Water Act, 33 U.S.C. 1311(a); Section 10 of the Rivers and Harbors Act, 33 U.S.C. 403; and Section 16-202(a) of the Environment Article of the Annotated Code of Maryland (collectively, “the statutes”), to obtain injunctive relief from and to impose civil penalties against the Defendants for violating the statutes by discharging pollutants without a permit into waters of the United States and the State of Maryland. The proposed Consent Decree resolves these allegations by requiring Defendants William and Janice Costello to restore the impacted areas, to pay a civil penalty, and to make a payment to the State of Maryland's Wetland Compensation fund. It also requires Defendant The Permit Coordinators, Inc. to pay civil penalties and to make a payment to the State of Maryland's Wetland Compensation Fund. In the event that Defendant The Permit Coordinators, Inc. fails to make the required payments, both Defendant Scott C. Mielke and Defendant The Permit Coordinators, Inc. would be jointly and severally liable for the unpaid amounts.

The Department of Justice will accept written comments relating to this proposed Consent Decree for thirty (30) days from the date of publication of this Notice. Please address comments to Michael Schon, Trial Attorney, Environmental Defense Section, P.O. Box 23986, Washington, DC 20026, and refer to United States, et al. v. Costello, et al., DJ #90-5-1-1-17683.

The proposed Consent Decree may be examined at the Clerk's Office, United States District Court for the District of Maryland. In addition, the proposed Consent Decree may be viewed at http://www.usdoj.gov/enrd/Consent_Decrees.html.

Russell Young,
Assistant Chief, Environmental Defense Section, Environment & Natural Resources Division.

[FR Doc. 07-3269 Filed 7-5-07; 8:45 am]

BILLING CODE 4410-15-M